FEDERAL COMMUNICATIONS COMMISSION

[DA 01-2436]

Changes in Filing Location for Paper Documents

AGENCY: Federal Communications Commission

ACTION: Notice.

SUMMARY: This document announces that the Federal Communications Commission (the Commission) will no longer accept hand-delivered or messenger-delivered paper filings at its headquarters location, 445—12th Street, SW., Washington, DC 20554.

DATES: The due date for any filings due at the Commission Thursday, October 18, 2001, or Friday, October 19, 2001, is hereby extended to Monday, October 22, 2001.

ADDRESSES: Federal Communications Commission, 445 12th Street, SW., Washington, DC 20554.

FOR FURTHER INFORMATION CONTACT: Magalie Roman Salas, Secretary, FCC, (202) 418-0300.

SUPPLEMENTARY INFORMATION: On Monday, October 22, 2001, the Commission will resume accepting hand-delivered or messenger-delivered paper filings only at our Capitol Heights facility located at 9300 East Hampton Drive, Capitol Heights, MD 20743. To accommodate this change in location, the time deadline for filing at the Capitol Heights facility is extended hereafter to 9 p.m. Eastern Time. Filings received at the Capitol Heights facility will be date-stamped. Filings made pursuant to 47 CFR 1.13(a) should also be made at the Capitol Heights facility where they will be date and time stamped. Subpoenas directed to the Commission or its employees in their official capacities will be received only at the Capitol Heights facility. The Commission is currently looking for an alternative site in Washington, DC, to accept delivery of filings on a more permanent basis. The public will be notified of that location as quickly as possible.

We encourage our customers to make full use of the Commission's electronic filings systems to facilitate the filing of documents.

Filings and other documents sent to the Commission by United States Postal Service or overnight delivery services should continue to be addressed to the Commission at 445—12th Street, SW., Washington, DC 20554. The Commission itself will divert those deliveries to the Capitol Heights facility.

This notice supersedes any Commission rules permitting the hand filing of documents at the Commission's headquarters.

The Commission finds it necessary at this time to make these changes to its procedures to protect the health and safety of its employees and therefore finds good cause to make them effective as expeditiously as possible in accordance with this notice.

Federal Communications Commission.
Magalie Roman Salas,
Secretary.

[FR Doc. 01-26824 Filed 10-23-01; 8:45 am]

BILLING CODE 6712-01-P